DEPARTMENT OF THE INTERIOR

Office of the Secretary

Meeting of the U.S. Coral Reef Task Force

Time and Date: 9 a.m. to 5 p.m. EST, October 2 and 3, 2002.

Place: Las Olas Room, Caribe Hilton Hotel, San Juan, Puerto Rico.

Status: The Department of the Interior, as co-chair with the Department of Commerce, on behalf of the U.S. Coral Reef Task Force (CRTF), announces a public meeting of the Task Force. Composed of the heads of eleven federal agencies and the Governors of seven states, territories, and commonwealths, the Task Force has helped lead U.S. efforts to address the coral reef crisis and sustainably manage the nation's valuable coral reef ecosystems.

Matters to be Considered: The CRTF will discuss implementation of the National Plan for Coral Reef Conservation Action, honor local organizations, and accept public comments. The agenda will be available from the contact persons below and published on the web at http://coralreef.gov/ when finalized.

Individuals and organizations will have opportunities to register for exhibit space and register to provide public comments limited to less that 5 minutes. Wherever possible, those with similar viewpoints or messages are encouraged to make joint statements. Testimony may be in English or Spanish, and will be received on the afternoon of October 2. Written statements may also be submitted to the Task Force up to October 10, 2002.

Contact Person for More Information: Organizations and individuals based outside of Puerto Rico desiring to register for public comments or to obtain additional information should contact the CRTF meeting office, c/o the Assistant Secretary for Fish and Wildlife Parks, Department of the Interior, 1849 C Street NW, MS-MIB-3156, Attn: CRTF, Washington, DC 20240, telephone 202-208-6211, e-mail CRTF@ios.doi.gov. Organizations or individuals in Puerto Rico should contact Ms. Astrid Green at the Community Affairs Division, Department of Natural Resources, telephone 787-724-8773/8774 x2258.

Dated: September 12, 2002.
Paul Hoffman,
Deputy Assistant Secretary for Fish and Wildlife and Parks.

[FR Doc. 02-23772 Filed 9-18-02; 8:45 am]

BILLING CODE 4310-55-P